DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Town of Newbury, Massachusetts (Docket Number FRA-2006-25058)

The Town of Newbury has petitioned on its own behalf for a temporary waiver of compliance from the requirements of the regulations governing Use of Locomotive Horns at Highway-Rail Grade Crossings (49 CFR part 222), which generally require that the locomotive horn be sounded at each public crossing unless certain exceptions are met. The Town of Newbury has had in place an intermediate quiet zone and seeks relief from the following requirements of the regulations:

1 Section 222.42, which limits the continuation of an intermediate quiet zone to one year ending June 24, 2006 and requires conversion of the intermediate quiet zone into a new quiet zone by that date; and

2 Section 222.15, which requires joint submission of petitions for waiver of any requirement contained in 49 CFR part 222.

The petition also, in effect, asks that the petitioner be treated as if qualified for a pre-rule quiet zone under § 222.41(c), specifically with respect to the application of the 66.8% excess risk factor and the opportunity to take advantage of an 8-year continuation period within which to implement necessary quiet zone improvements. In support of this request, the petitioner asserts that there have been no relevant collisions in the prior 5-year period and that it has a quiet zone risk index of less than two times the Nationwide Significant Risk Threshold. The petition also notes that the petitioner has active grade crossing warning devices and advance warning signs at each grade crossing within the quiet zone.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-25058) and must be submitted to the Docket Clerk, DOT Central Docket Management Facility, Room PL-401, Washington, DC 20590-0001. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on June 30, 2006.
Grady C. Cothen, Jr.,
Deputy Associate Administrator for Safety Standards and Program Development.

[FR Doc. E6-10645 Filed 7-6-06; 8:45 am]

BILLING CODE 4910-06-P